DEPARTMENT OF TRANSPORTATION

Federal Aviation Administration

[Docket No.: FAA-2024-1750; Summary Notice No. 2024-37]

Petition for Exemption; Summary of Petition Received; Lynden Air Cargo, LLC

AGENCY: Federal Aviation Administration (FAA), Department of Transportation (DOT).

ACTION: Notice.

SUMMARY: This notice contains a summary of a petition seeking relief from specified requirements of Federal Aviation Regulations. The purpose of this notice is to improve the public's awareness of, and participation in, the FAA's exemption process. Neither publication of this notice nor the inclusion nor omission of information in the summary is intended to affect the legal status of the petition or its final disposition.

DATES: Comments on this petition must identify the petition docket number and must be received on or before September 24, 2024.

ADDRESSES: Send comments identified by docket number FAA-2024-1750 using any of the following methods:

• Federal eRulemaking Portal: Go to http://www.regulations.gov and follow the online instructions for sending your comments electronically.

• Mail: Send comments to Docket Operations, M-30; U.S. Department of Transportation, 1200 New Jersey Avenue SE, Room W12-140, West Building Ground Floor, Washington, DC 20590-0001.

• Hand Delivery or Courier: Take comments to Docket Operations in Room W12-140 of the West Building Ground Floor at 1200 New Jersey Avenue SE, Washington, DC 20590-0001, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE, Washington, DC 20590-0001, between 9 a.m. and 5 p.m., Monday through Friday, except Federal holidays.

FOR FURTHER INFORMATION CONTACT: Shannon Uplinger, 202-267-6107, Office of Rulemaking, Federal Aviation Administration, 800 Independence Avenue SW, Washington, DC 20591.

This notice is published pursuant to 14 CFR 11.85.

Issued in Washington, DC.
Dan Ngo,
Manager, Part 11 Petitions Branch, Office of Rulemaking.

Petition for Exemption

Docket No.: FAA-2024-1750.

Petitioner: Lynden Air Cargo, LLC.

Section(s) of 14 CFR Affected: 14 CFR 25.807(g)(1), 25.857(e), and 25.1447(c)(1).

Description of Relief Sought: Lynden Air Cargo, LLC (LAC) petitions for relief from CAR 4b.362(c) [Amendment 4b-5], CAR 4b.383(e) [Amendment 4b-10], and CAR 4b.651(d)(3)(i) [Amendment 4b-9] to authorize the carriage of loadmasters, flight mechanics, and cargo couriers aboard aircraft with Class E cargo compartments and to authorize the access of those individuals to the Class E cargo compartment during flight. LAC further requests to exercise the privileges of the exemption outside the United States consistent with the requirements of the State in which the operation occurs. These operations will take place primarily in remote or inaccessible areas. 14 CFR 11.61 states that petitioners for exemption may ask the agency for relief from “current regulations in 14 CFR.” Also, the FAA stated, while promulgating 14 CFR 11.61, that “. . . petitions for exemption apply only to Title 14 of the Code of Federal Regulations.” 65 FR 50850, 50859 (Aug. 21, 2000). Due to this airplane's certification basis, the relief requested here is not from regulations in 14 CFR, but from its predecessor before recodification, CAR 4b. However, such recodification of these regulations was not intended to be substantive, and the predecessor regulations reside in their current, amended form in Title 14. 29 FR 18629 (Dec. 24, 1964). Also, changes to the three provisions at issue here (CAR 4b.362(c), CAR 4b.383(e), and CAR 4b.651(d)(3)(i)) as a result of such recodification (to 14 CFR 25.807(g)(1), 25.857(e), and 25.1447(c)(1) respectively) were likewise minimal. The FAA also finds that the agency did not intend, in promulgating 14 CFR 11.61 or 11.81, to limit itself in the exercise of its statutory authority (including 49 U.S.C. 44701(f)) to grant relief. However, as part of the public comment process for this exemption, the FAA also invites public comment on these findings.

[FR Doc. 2024-19735 Filed 9-3-24; 8:45 am]

BILLING CODE 4910-13-P